DEPARTMENT OF LABOR

Office of Disability Employment Policy

Advisory Committee on Increasing Competitive Integrated Employment for Individuals With Disabilities; Notice of Amended Charter

In accordance with section 609 of the Rehabilitation Act of 1973, as amended by section 461 of the Workforce Innovation and Opportunity Act, and the provisions of the Federal Advisory Committee Act and its implementing regulations issued by the General Services Administration (GSA), the Department of Labor established the Advisory Committee on Increasing Competitive Integrated Employment for Individuals with Disabilities on September 15, 2014.

The Advisory Committee on Increasing Competitive Integrated Employment for Individuals with Disabilities is tasked with studying and preparing findings, conclusions, and recommendations for the Secretary of Labor on: (1) Ways to increase the employment opportunities for individuals with intellectual or developmental disabilities or other individuals with significant disabilities in competitive integrated employment; (2) the use of the certificate program carried out under section 14(c) of the Fair Labor Standards Act of 1938 (29 U.S.C. 214(c)) for the employment of individuals with intellectual or developmental disabilities, or other individuals with significant disabilities; and (3) ways to improve oversight of the use of such certificates.

Membership consists of seven ex officio members: The Assistant Secretary of Disability Employment Policy, the Assistant Secretary for Employment and Training Administration, and the Administrator of the Wage and Hour Division of the Department of Labor; the Commissioner of the Administration on Intellectual and Developmental Disabilities, or the Commissioner's designee; the Director of the Centers for Medicare and Medicaid Services, or the Director's designee; the Commissioner of Social Security, or the Commissioner's designee; and the Commissioner of the Rehabilitation Services Administration, or the Commissioner's designee.

Pursuant to the charter filed on September 15, 1014, it also consisted of approximately 10-12 representatives, appointed by the Secretary, with at least one from each of the following constituencies consisting of: Self-advocates for individuals with intellectual or developmental disabilities; providers of employment services, including those that employ individuals with intellectual or developmental disabilities in competitive integrated employment; representatives of national disability advocacy organizations for adults with intellectual or developmental disabilities; experts with a background in academia or research and expertise in employment and wage policy issues for individuals with intellectual or developmental disabilities; representatives from the employer community or national employer organizations; and other individuals or representatives of organizations with expertise on increasing opportunities for competitive integrated employment for individuals with disabilities.

The amended charter increases the number of representatives serving these constituencies on the committee from approximately 10-12 members to approximately 15-17 members. Given the scope and complexity of the issues the committee must address, increasing the committee's size will better provide it with the expertise and balance of perspective needed to fully inform its recommendations. No other changes to the charter are being made.

For further information, contact Jennifer Sheehy, Designated Federal Officer, Advisory Committee on Increasing Competitive Integrated Employment for Individuals with Disabilities, U.S. Department of Labor, 200 Constitution Avenue NW., Suite S-1303, Washington, DC 20210, telephone (202) 693-7880.

Signed at Washington, DC, this 17th day of December, 2014.
Jennifer Sheehy,
Deputy Assistant Secretary, Office of Disability Employment Policy.

[FR Doc. 2014-30138 Filed 12-23-14; 8:45 am]

BILLING CODE 4510-23-P